DEPARTMENT OF ENERGY

Federal Energy Regulatory Commission

[Docket No. RP00-108-003]

Questar Pipeline Company; Notice of Tariff Filing

July 18, 2000.

Take notice that on July 13, 2000, Questar Pipeline Company tendered for filing to become part of its FERC Gas Tariff, the following tariff sheets, to be effective January 1, 2000:

First Revised Volume No. 1

Substitute Thirteenth Revised Sheet No. 5

Original Volume No. 3

Substitute Twenty-Fourth Revised Sheet No. 8

On May 22, 2000, Questar filed an uncontested Offer of Settlement to adjust its fuel gas reimbursement percentage (FGRP) in Docket No. RP00-108-000. On June 30, 2000, the Commission approved the uncontested Offer of Settlement, and directed Questar to file tariff sheets to decrease the FGRP from 2.4 percent to 2.1 percent, to be effective January 1, 2000.

Questar stated that a copy of this filing has been served upon all parties to the proceeding, its customers, the Public Service Commission of Utah and the Public Service Commission of Wyoming.

Any person desiring to protest this filing should file a protest with the Federal Energy Regulatory Commission, 888 First Street, NE, Washington, DC 20426, in accordance with section 385.211 of the Commission's rules and regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-18505 Filed 7-20-00; 8:45 am]

BILLING CODE 6717-01-M